DEPARTMENT OF JUSTICE

Notice of Lodging of a Consent Decree Under the Clean Water Act

Notice is hereby given that on December 29, 2011, a proposed Consent Decree in United States and State of Indiana v. City of South Bend, Indiana, Civil Action No. 3:11CV505 was lodged with the United States District Court for the Northern District of Indiana.

In this case, the United States and the State of Indiana (Indiana) seek civil penalties and injunctive relief for violations of the Clean Water Act, 33 U.S.C. 1251 et seq., Title 13 of the Indiana Code, Title 327 of the Indiana Administrative Code, and certain terms and conditions of National Pollution Discharge Elimination System permits that Indiana issued to the City of South Bend (South Bend) for the relevant time periods, related to alleged discharges of untreated sewage from South Bend's combined sewer collection system, i.e. “combined sewer overflows,” during wet weather events, and some dry weather time periods, into “waters of the United States” and “waters of the state.”

The proposed Consent Decree would require South Bend to reduce its combined sewer overflows by comprehensively upgrading and expanding its sewage collection, storage, conveyance, and treatment system, at a cost of approximately $509.5 million in 2007 dollars. South Bend must complete these improvements by December 31, 2031 or, if South Bend demonstrates financial hardship, by December 31, 2036. Additionally, the proposed Decree requires South Bend to pay a total civil penalty of $88,200 split equally between the United States and the State of Indiana.

The Department of Justice will receive for a period of thirty (30) days from the date of this publication comments relating to the proposed Consent Decree. Comments should be addressed to the Assistant Attorney General, Environment and Natural Resources Division, and either emailed to pubcomment-ees.enrd@usdoj.gov or mailed to P.O. Box 7611, U.S. Department of Justice, Washington, DC 20044-7611, and should refer to United States and State of Indiana v. City of South Bend, Indiana, No. 3:11-CV-505 (N.D. Ind.), D.J. Ref. 90-5-1-1-08182.

The proposed Consent Decree may be examined at the Office of the United States Attorney, Northern District of Indiana, 5400 Federal Plaza, Suite 1500, Hammond, IN 46320 (contact Assistant United States Attorney Wayne Ault (219) 937-5650)), and at the U.S. Environmental Protection Agency, Region 5, 77 West Jackson Boulevard, Chicago, IL 60604-3590 (contact Associate Regional Counsel Gary Prichard (312) 886-0570)).

During the public comment period, the proposed Consent Decree also may be examined on the following Department of Justice Web site: http://www.usdoj.gov/enrd/Consent_Decrees.html. A copy of the proposed consent decree also may be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. In requesting a copy from the Consent Decree Library, please enclose a check in the amount of $21.00 (25 cents per page reproduction cost) payable to the U.S. Treasury or, if by email or fax, forward a check in that amount to the Consent Decree Library at the address given above.

Maureen Katz,
Assistant Chief, Environmental Enforcement Section, Environment and Natural Resources Division.

[FR Doc. 2012-41 Filed 1-5-12; 8:45 am]

BILLING CODE 4410-15-P